NUCLEAR REGULATORY COMMISSION

[Docket Nos. 50-10, 50-237 and 50-249]

Exelon Generation Company, LLC, Dresden Nuclear Power Station, Units 1, 2, and 3; Environmental Assessment and Finding of No Significant Impact

The U.S. Nuclear Regulatory Commission (NRC) is considering issuance of an exemption from Title 10 of the Code of Federal Regulations (10 CFR) Part 50, Appendix E, Item IV.F.2.c to Facility Operating License Nos. DPR-2, DPR-19 and DPR-25, issued to Exelon Generation Company, LLC (the licensee), for operation of the Dresden Nuclear Power Station, Units 1, 2 and 3 (DNPS), located in Grundy County, Illinois. Therefore, as required by 10 CFR 51.21, the NRC is issuing this environmental assessment and finding of no significant impact.

Environmental Assessment

Identification of the Proposed Action

The proposed action would allow a one-time exemption from the requirements of 10 CFR part 50, Appendix E, Item IV.F.2.c, regarding conduct of a full-participation exercise of the offsite emergency plan every 2 years. Under the proposed exemption, the licensee would reschedule the exercise originally scheduled for September 18, 2001, and complete the exercise requirements by December 31, 2002.

The proposed action is in accordance with the licensee's application for an exemption dated December 18, 2001.

The Need for the Proposed Action

Currently under 10 CFR part 50, Appendix E, Item IV.F.2.c, each licensee at each site is required to conduct a full-participation exercise of its offsite emergency plan every 2 years. Federal agencies, including the Federal Emergency Management Agency, observe these exercises and evaluate the performance of the licensee, state, and local authorities having a role under the emergency plan.

The licensee had initially scheduled a full participation biennial exercise of its onsite and offsite emergency plans for May 26, 2001, within the required 2-year interval. However, due to flooding conditions within the state and the need for state and local officials to address these needs, the exercise was conducted with participation by only the Illinois Department of Nuclear Safety and the licensee. The offsite portion of the exercise was rescheduled for September 18, 2001. However, as a result of the national security events occurring in the United States on September 11, 2001, this exercise was canceled after consultations with the Federal Emergency Management Agency and the Illinois Emergency Management Agency. Future full participation exercises for DNPS will be performed on the existing biennial schedule and are not affected by the requested exemption.

Environmental Impacts of the Proposed Action

The NRC has completed its evaluation of the proposed action and concludes that the proposed action involves an administrative activity unrelated to plant operations.

The proposed action will not significantly increase the probability or consequences of accidents, no changes are being made in the types of any effluents that may be released offsite, and there is no significant increase in occupational or public radiation exposure. Therefore, there are no significant radiological environmental impacts associated with the proposed action.

With regard to potential nonradiological impacts, the proposed action does not have the potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the proposed action would result in no change in current environmental impacts. The environmental impacts of the proposed action and the alternative action are similar.

Alternative Use of Resources

This action does not involve the use of any resources different than those previously considered in the Final Environmental Statement for DNPS, dated 1973.

Agencies and Persons Consulted

On December 19, 2001, the staff consulted with the Illinois State official, Frank Niziolek, of the Illinois Department of Nuclear Safety, regarding the environmental impact of the proposed action. The State official had no comments.

Finding of No Significant Impact

On the basis of the environmental assessment, the NRC concludes that the proposed action will not have a significant effect on the quality of the human environment. Accordingly, the NRC has determined not to prepare an environmental impact statement for the revised proposed action.

For further details with respect to the proposed action, see the licensee's letter dated December 18, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS, should contact the NRC PDR Reference staff by telephone at 1-800-397-4209, or 301-415-4737, or by e-mail at pdr@nrc.gov.

Dated at Rockville, Maryland, this 19th day of December 2001.
For the Nuclear Regulatory Commission.
Anthony J. Mendiola,
Chief, Section 2, Project Directorate III, Division of Licensing Project Management, Office of Nuclear Reactor Regulation.

[FR Doc. 01-31805 Filed 12-26-01; 8:45 am]

BILLING CODE 7590-01-P